Proclamation 9482 of August 31, 2016

National Wilderness Month, 2016

By the President of the United States of America

A Proclamation

In our Nation's earliest days, a vast majority of North America was wilderness—from majestic plains and imposing mountain ranges to dense forests and rushing waterways. Today, protected wild spaces continue to serve as a backdrop for curious and adventurous Americans to seek the thrill and joy of connecting with the sacred spirit of our country's wilderness, offering a wide variety of activities including hiking, camping, and climbing. This month, as we cherish our vast and vibrant natural heritage, we resolve to preserve its splendors for all who will follow in our footsteps.

Aiming to leave future generations with a “glimpse of the world as it was in the beginning,” President Lyndon B. Johnson signed into law two historic pieces of legislation that opened a new chapter in American conservation—the Wilderness Act and the Land and Water Conservation Fund Act. The Wilderness Act defined our untrammeled lands as wilderness and created the National Wilderness Preservation System, recognizing forests, parks, and wildlife refuges as having intrinsic value as wild lands worth protecting. The Land and Water Conservation Fund (LWCF) was established out of a bipartisan commitment to ensure that we can protect lands and waters for use and enjoyment by all our people; throughout the last 50 years it has supported conservation efforts in every State, including tens of thousands of State and local projects through billions of dollars in grants. But a lack of full and secure funding hinders many important LWCF projects that protect critical habitats and provide recreational opportunities—which is why I keep calling on the Congress to pursue permanent funding for the LWCF.

Our great outdoors are home to some of the richest and most beautiful ecosystems and resources on the planet, and my Administration has made protecting them a priority. Climate change, one of the greatest challenges of our time, is already harming many of our wild spaces, which is one important reason why I have pushed for stronger action to cut greenhouse gas pollution and strengthen the resilience of our ecosystems to rising temperatures. In my first year in office, I signed the most extensive expansion of conservation efforts in more than a generation. Since then, my Administration has protected hundreds of millions of acres of land and water, more than any Administration in history. Through our America's Great Outdoors initiative, we have worked with local, State, and tribal partners to build a conservation agenda worthy of the 21st century. And to ensure more Americans can experience everything the wilderness has to offer, we launched the “Every Kid in a Park” initiative, giving fourth graders and their families free entrance to our National Parks and other public lands and waters.

It is one of our greatest responsibilities as citizens of this Nation and stewards of this planet to protect these outdoor spaces of incomparable beauty and to ensure that this powerful inheritance is passed on to future generations. During National Wilderness Month, let us strengthen our connection with these natural treasures and ensure that the stories they tell and the resources they provide are resilient and everlasting in the years to come.

NOW, THEREFORE, I, BARACK OBAMA, President of the United States of America, by virtue of the authority vested in me by the Constitution and the laws of the United States, do hereby proclaim September 2016 as National Wilderness Month. I invite all Americans to visit and enjoy our wilderness areas, to learn about their vast history, and to aid in the protection of our precious national treasures.

IN WITNESS WHEREOF, I have hereunto set my hand this thirty-first day of August, in the year of our Lord two thousand sixteen, and of the Independence of the United States of America the two hundred and forty-first.

[FR Doc. 2016-21759

Filed 9-7-16; 8:45 am]

Billing code 3295-F6-P